DEPARTMENT OF TRANSPORTATION

Federal Aviation Administration

Suspension of Preparation of Environmental Impact Statement for the George Bush Intercontinental Airport, Houston, TX

AGENCY: Federal Aviation Administration (FAA), Department of Transportation (DOT).

ACTION: Notice suspending preparation of the Environmental Impact Statement (EIS) for the George Bush Intercontinental Airport (IAH).

SUMMARY: The FAA is issuing this notice to advise federal, state, and local government agencies and the public that the FAA has suspended preparation of the EIS for the proposed airport improvements at IAH. The Houston Airport System (HAS), the sponsor of the proposed project, has advised the FAA that significant changes in the aviation industry and at IAH warrant suspension of the on-going EIS in order to reevaluate development needs for the airport. HAS has determined that reevaluation of the Airport Master Plan (AMP) assumptions will provide the most current and reliable information on which to base decisions regarding future proposals for airport development.

FOR FURTHER INFORMATION CONTACT: DOT/FAA, Southwest Region, Mr. Paul Blackford, ASW-650, 2601 Meacham Boulevard, Fort Worth, TX 76137, (817) 222-5607, or e-mail at paul.blackford@faa.gov.

SUPPLEMENTARY INFORMATION: On April 9, 2009, the FAA issued a Notice of Intent in the Federal Register (74 FR 16255-16256) to prepare an EIS for proposed airfield improvements at IAH. The purpose of these proposed improvements is to increase airfield capacity and to reduce projected delays. Based on the results of the AMP, the airfield improvements being analyzed in the EIS included the proposed construction of additional runway(s) at IAH. Preparation of the EIS was undertaken by the FAA in accordance with the National Environmental Policy Act of 1969, as amended.

The FAA received a letter from HAS dated July 30, 2010 requesting that preparation of the EIS be delayed. Based on its letter, HAS believes that additional planning work is necessary to ensure that the assumptions used in the AMP remain valid. The letter points to the impacts of the potential United-Continental merger, the economic downturn, potential changes to aircraft fleet mix, and the need to update the existing terminal concept as reasons justifying their request to conduct additional planning. The FAA will issue another Federal Register notice when it determines that preparation of the EIS should resume.

Issued in Fort Worth, TX on September 3, 2010.
D. Cameron Bryan,
Acting Manager, Airports Division.

[FR Doc. 2010-22869 Filed 9-15-10; 8:45 am]

BILLING CODE 4910-13-M